DEPARTMENT OF COMMERCE

International Trade Administration

[A-570-001]

Potassium Permanganate From the People's Republic of China: Final Results of Expedited Fourth Sunset Review of the Antidumping Duty Order

AGENCY: Enforcement and Compliance, International Trade Administration, Department of Commerce.

SUMMARY: As a result of this fourth sunset review, the Department of Commerce (“the Department”) finds that revocation of the antidumping duty order on potassium permanganate from the People's Republic of China (“PRC”) ¹ would be likely to lead to continuation or recurrence of dumping at the levels indicated in the “Final Results of Review” section of this notice.

¹ See Antidumping Duty Order; Potassium Permanganate from The People's Republic of China, 49 FR 3897 (January 31, 1984).

DATES: Effective Date: January 7, 2016.

FOR FURTHER INFORMATION CONTACT: Paul Walker, AD/CVD Operations, Enforcement and Compliance, International Trade Administration, U.S. Department of Commerce, 14th Street and Constitution Avenue NW., Washington, DC 20230; telephone: (202) 482-0413.

SUPPLEMENTARY INFORMATION:

Background

The Department published the antidumping duty order on potassium permanganate from the PRC on January 31, 1984.² On September 1, 2015, the Department published a notice of initiation of the fourth sunset review of the antidumping duty order on potassium permanganate from the PRC pursuant to section 751(c) of the Tariff Act of 1930, as amended (the “Act”).³ On September 9, 2015, Carus Corporation (“Carus”), a U.S. producer of potassium permanganate, claiming interested party status under section 771(9)(C) of the Act, submitted its notice of intent to participate in this sunset review.⁴ On September 29, 2015, Carus submitted its Substantive Response within the 30-day deadline specified in 19 CFR 351.218(d)(3)(i). The Department did not receive a substantive response from any respondent interested party. As a result, pursuant to section 751(c)(3)(B) of the Act, and 19 CFR 351.218(e)(1)(ii)(C)(2), the Department conducted an expedited (120-day) sunset review of the antidumping duty order on potassium permanganate from the PRC.

² Id.

³ See Initiation of Five-Year (“Sunset”) Review, 80 FR 52743 (September 1, 2015).

⁴ See Letter from the domestic interested party (September 9, 2015).

Scope of the Order

Imports covered by this order are shipments of potassium permanganate, an inorganic chemical produced in free-flowing, technical, and pharmaceutical grades. Potassium permanganate is currently classifiable under item 2841.61.00 of the Harmonized Tariff Schedule of the United States (“HTSUS”). Although the HTSUS item number is provided for convenience and customs purposes, the written description of the merchandise remains dispositive.

Analysis of Comments Received

A complete discussion of all issues raised in this sunset review is available in the Issues and Decision Memorandum for the Expedited Fourth Sunset Review of the Antidumping Duty Order on Potassium Permanganate from the PRC (“Decision Memorandum”), dated concurrently with this notice. The issues discussed in the Decision Memorandum include the likelihood of continuation or recurrence of dumping and the magnitude of the margins of dumping likely to prevail if the order were to be revoked. The Decision Memorandum is a public document and is on file electronically via the Enforcement and Compliance Antidumping and Countervailing Duty Centralized Electronic Services System (“ACCESS”). ACCESS is available to registered users at http://access.trade.gov and to all parties in the Central Records Unit, Room B8024 of the main Department of Commerce building. In addition, a complete version of the Decision Memorandum can be accessed at http://enforcement.trade.gov/frn/. The signed Decision Memorandum and the electronic version of the Decision Memorandum are identical in content.

Final Results of Review

Pursuant to sections 751(c)(1) and 752(c)(1) and (3) of the Act, the Department determines that revocation of the antidumping duty order on potassium permanganate from the PRC would be likely to lead to continuation or recurrence of dumping, and the magnitude of the margins of dumping likely to prevail is up to 128.94 percent.⁵

⁵ See Final Results of Expedited Sunset Review: Potassium Permanganate from the People's Republic of China; 64 FR 16907 (April 7, 1999); see also Potassium Permanganate from the People's Republic of China; Five-year (“Sunset”) Review of Antidumping Duty Order; Final Results, 70 FR 24520 (May 10, 2005); see also Potassium Permanganate from the People's Republic of China: Final Results of Expedited Sunset Review of Antidumping Duty Order, 75 FR 52509 (August 26, 2010).

Administrative Protective Order

This notice also serves as the only reminder to parties subject to administrative protective order (“APO”) of their responsibility concerning the return or destruction of proprietary information disclosed under APO in accordance with 19 CFR 351.305. Timely written notification of the return or destruction of APO materials, or conversion to judicial protective order, is hereby requested. Failure to comply with the regulations and terms of an APO is a violation which is subject to sanction.

Notification to Interested Parties

We are issuing and publishing the results and notice in accordance with sections 751(c), 752(c), and 777(i)(1) of the Act and 19 CFR 351.218.

Dated: December 30, 2015.
Paul Piquado,
Assistant Secretary for Enforcement and Compliance.

[FR Doc. 2016-00079 Filed 1-6-16; 8:45 am]

BILLING CODE 3510-DS-P